DEPARTMENT OF THE INTERIOR

Fish and Wildlife Service

[FWS-R4-FHC-2012-N030; FVHC98130406900Y4-XXX-FF04G01000]

Correction Notice for Deepwater Horizon Oil Spill; Draft Phase I Early Restoration Plan and Environmental Assessment

AGENCY: Fish and Wildlife Service, Interior.

ACTION: Notice of availability and request for comments; correction.

SUMMARY: In accordance with the Oil Pollution Act of 1990 (OPA), the National Environmental Policy Act (NEPA), and the Framework Agreement for Early Restoration Addressing Injuries Resulting from the Deepwater Horizon Oil Spill, the Federal and State natural resource trustee agencies (Trustees) prepared a Draft Early Restoration Plan and Environmental Assessment (DERP/EA) describing and proposing a suite of early restoration projects intended to commence the process of restoring natural resources and services injured or lost as a result of the Deepwater Horizon oil spill, which occurred on or about April 20, 2010, in the Gulf of Mexico. On December 14, 2011, the U.S. Fish and Wildlife Service, Department of the Interior (DOI), published a notice in the Federal Register informing the public of the availability of the DERP/EA and seeking written comments. This notice included a mailing address error, which the Service corrects via this notice.

DATES: We will consider public comments received on or before February 14, 2012.

FOR FURTHER INFORMATION CONTACT: Brian Spears, at FW4DWHInfo@fws.gov.

SUPPLEMENTARY INFORMATION: On December 14, 2011, the U.S. Fish and Wildlife Service (Service), United States Department of the Interior (DOI), published a notice in the Federal Register (76 FR 78016) informing the public of the availability of the DERP/EA and seeking written comments on the proposed restoration alternative presented in the DERP/EA.

This notice misstated the post office box number to which commenters could send comments. The correct post office box address is:

U.S. Mail: c/o U.S. Fish and Wildlife Service, P.O. Box 2099, Fairhope, AL 36533.

The Service has taken several steps to ensure that comments sent to the incorrect post office box are routed to the correct box, including filing a change of address form and coordinating with the U.S. Postal Service directly.

Everything else in the December 14, 2011, notice, including the other methods for public comment it offered, remains the same.

Public Availability of Comments

Before including your address, phone number, email address, or other personal identifying information in your comment, you should be aware that your entire comment including your personal identifying information, may be publicly available at any time. While you can ask us in your comment to withhold your personal identifying information from public review, we cannot guarantee that we will be able to do so.

Author

The primary author of this notice is Harriet Deal.

Authority

The authority for this action is the Oil Pollution Act of 1990 (33 U.S.C. 2701 et seq.) and the implementing Natural Resource Damage Assessment regulations found at 15 CFR Part 990.

Dated: February 3, 2012.
Cynthia K. Dohner,
Authorized Official, Department of the Interior.

[FR Doc. 2012-3113 Filed 2-9-12; 8:45 am]

BILLING CODE 4310-55-P